COMMISSION ON CIVIL RIGHTS

Agenda and Notice of Public Meeting of the Kentucky Advisory Committee

Notice is hereby given, pursuant to the provisions of the rules and regulations of the U.S. Commission on Civil Rights (Commission) and the Federal Advisory Committee Act (FACA) that a meeting of the Kentucky Advisory Committee to the Commission will convene at 9:30 a.m. and adjourn at 11:30 a.m. on September 13, 2013. The meeting will be held at the President's Board Room, University of Louisville, Louisville, KY 40292. The purpose of the meeting is to consider a school desegregation project and plan future activities.

Members of the public are entitled to submit written comments; the comments must be received in the Southern Regional Office of the Commission by October 13, 2013. The address is Southern Regional Office, U.S. Commission on Civil Rights, 61 Forsyth St. SW., Suite 16T126, Atlanta, GA 30303. Persons wishing to email their comments may do so to Peter Minarik at pminarik@usccr.gov

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated: August 13, 2013.
David Mussatt,
Acting Chief, Regional Programs Coordination Unit.

[FR Doc. 2013-20031 Filed 8-16-13; 8:45 am]

BILLING CODE 6335-01-P